DEPARTMENT OF TRANSPORTATION

Federal Aviation Administration

14 CFR Part 39

[Docket No. FAA-2005-22053; Directorate Identifier 2004-NM-74-AD]

RIN 2120-AA64

Airworthiness Directives; Airbus Model A300 B4-600, B4-600R, and F4-600R Series Airplanes, and Model C4-605R Variant F Airplanes (Collectively Called A300-600 Series Airplanes); and Airbus Model A310 Series Airplanes

AGENCY: Federal Aviation Administration (FAA), Department of Transportation (DOT).

ACTION: Notice of proposed rulemaking (NPRM).

SUMMARY: The FAA proposes to adopt a new airworthiness directive (AD) for certain Airbus airplanes, listed above. This proposed AD would require installing two-stage relays in the electronics rack (90VU), and performing related corrective and investigative actions. This proposed AD is prompted by reports of in advertent rudder trim activation when the autopilot is on. We are proposing this AD to prevent inadvertent trim activation when the autopilot is on and the slats are extended, which could result in rudder activation when the autopilot is turned off.

DATES: We must receive comments on this proposed AD by September 9, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-22053; the directorate identifier for this docket is 2004-NM-74-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-22053; Directorate Identifier 2004-NM-74-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A300 B4-600, B4-600R, and F4-600R series airplanes, and Model C4-605R Variant F airplanes (collectively called A300-600 series airplanes); and Airbus Model A310 series airplanes. The DGAC advises that there have been reports of inadvertent activation of the rudder trim when the autopilot was engaged. Inadvertent trim activation when the autopilot is on and the slats are extended could result in rudder activation when the autopilot is turned off.

Relevant Service Information

Airbus has issued Airbus Service Bulletin A300-27-6031, Revision 03, dated February 9, 2001, for Model A300 B4-601, B4-603, B4-605R, B4-622R, A300 C4-605R Variant F, and F4-605R airplanes; and Airbus Service Bulletin A310-27-2077, Revision 03, dated February 9, 2001, for Airbus Model A310 series airplanes.

The service bulletins describe procedures for installing two-stage relays that are controlled by the flight control computers (FCC1 and FCC2). The service bulletins recommend this installation to further improve the protection against rudder trim activation caused by inadvertent selection. The two-stage relays inhibit the rudder trim control when the autopilot is engaged and the slats are extended, and are installed in the electronics rack 90VU between switch 4CG and relays 12CG and 13CG. The installation includes applicable related corrective actions. The related corrective actions include installing new equipment (such as clamps, brackets, relay plate, and relays) in the electronics rack, and modifying certain wiring in the electronics rack.

Accomplishing the actions specified in the service information is intended to adequately address the unsafe condition. The DGAC mandated the service information and issued French airworthiness directive 98-175-249(B), dated April 22, 1998, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously.

Costs of Compliance

This proposed AD would affect about 115 airplanes of U.S. registry. The proposed actions would take about between 3 and 14 work hours per airplane, depending on the airplane's configuration, at an average labor rate of $65 per work hour. Required parts would cost between $520 and $1,330 per airplane, depending on the airplane's configuration. Based on these figures, the estimated cost of the proposed AD for U.S. operators is between $82,225 and $257,600,or between $715 and $2,240 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-22053; Directorate Identifier 2004-NM-74-AD.

Comments Due Date

(a) The Federal Aviation Administration must receive comments on this AD action by September 9, 2005.

Affected ADs

(b) None.

Applicability

(c) This AD applies to the Airbus airplanes identified in Table 1 of this AD, certificated in any category.

Table 1.—Airbus Airplanes Affected by This AD
Affected Models— | As Identified in Paragraph 1.A.(2)(a), “Effectivity by MSN,” of Airbus Service Bulletin—
Model A300 B4-600, B4-600R, and F4-600R series airplanes, and Model C4-605R Variant F airplanes (collectively called A300-600 series airplanes) | A300-27-6031, Revision 03, dated February 9, 2001.
Model A310 series airplanes | A310-27-2077, Revision 03, dated February 9, 2001.

Unsafe Condition

(d) This AD was prompted by reports of inadvertent rudder trim activation when the autopilot is on. We are issuing this AD to prevent inadvertent trim activation when the autopilot is on and the slats are extended, which could result in rudder activation when the autopilot is turned off.

Compliance

(e) You are responsible for having the actions required by this AD performed within the compliance times specified, unless the actions have already been done.

Installation

(f) Within 16 months after the effective date of this AD: Install two-stage relays in the electronics rack 90VU between switch 4CG and relays 12CG and 13CG; and do any applicable related corrective and investigative actions before further flight. Do all the actions in accordance with the Accomplishment Instructions of Airbus Service Bulletin A300-27-6031, Revision 03, dated February 9, 2001 (for Model A300-600 series airplanes); and Airbus Service Bulletin A310-27-2077, Revision 03, dated February 9, 2001 (for Model A310 series airplanes).

Modification According to Previous Issues of Service Bulletins

(g) Installations are also acceptable for compliance with the requirements of paragraph (f) of this AD if done before the effective date of this AD in accordance with one of the service bulletins in Table 2 of this AD.

Table 2.—Previous Issues of Service Bulletins
Airbus Service Bulletin | Revision | Date
A300-27-6031 | 01 | September 3, 1997.
A300-27-6031 | 02 | December 4, 1998.
A310-27-2077 | 01 | September 3, 1997.
A310-27-2077 | 02 | December 4, 1998.

Alternative Methods of Compliance (AMOCs)

(h) The Manager, ANM-116, Transport Airplane Directorate, FAA, has the authority to approve AMOCs for this AD, if requested in accordance with the procedures found in 14 CFR 39.19.

Related Information

(i) French airworthiness directive 98-175-249(B), dated April 22, 1998, also addresses the subject of this AD.

Issued in Renton, Washington, on August 3, 2005.
Ali Bahrami,
Manager, Transport Airplane Directorate, Aircraft Certification Service.

[FR Doc. 05-15802 Filed 8-9-05; 8:45 am]

BILLING CODE 4910-13-P